DEPARTMENT OF DEFENSE

Department of the Navy

[Docket ID: USN-2024-HQ-0018]

Submission for OMB Review; Comment Request

AGENCY: Department of the Navy (DON), Department of Defense (DoD).

ACTION: 30-Day information collection notice.

SUMMARY: The DoD has submitted to the Office of Management and Budget (OMB) for clearance the following proposal for collection of information under the provisions of the Paperwork Reduction Act.

DATES: Consideration will be given to all comments received by September 17, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Non-appropriated Fund Human Resource Management System (NAF HRMS); NAVMC Forms 12000/499, 12000/89, and 12000/89B; OMB Control Number 0712-0007.

Type of Request: Revision.

NAF HRMS Online Application

Number of Respondents: 73,391.

Responses per Respondent: 1.

Annual Responses: 73,391.

Average Burden Per Response: 30 minutes.

Annual Burden Hours: 36,696.

NAVMC Form 12000/499

Number of Respondents: 50.

Responses per Respondent: 1.

Annual Responses: 50.

Average Burden per Response: 15 minutes.

Annual Burden Hours: 13.

NAVMC 12000/89

Number of Respondents: 45.

Responses per Respondent: 1.

Annual Responses: 45.

Average Burden Per Response: 10 minutes.

Annual Burden Hours: 8.

NAVMC 12000/89B

Number of Respondents: 550.

Responses per Respondent: 1.

Annual Responses: 550.

Average Burden per Response: 10 minutes.

Annual Burden Hours: 92.

Total

Number of Respondents: 74,036.

Annual Responses: 74,036.

Annual Burden Hours: 36,807.

Needs and Uses: Information collection via the Non-Appropriated Fund Human Resource Management System (NAF HRMS) and associated forms is necessary for Marine Corps Community Service (MCCS) to successfully manage and administer an effective and efficient recruiting and hiring process. MCCS's use of innovative technologies in the Non-Appropriated Fund Human Resource Management System (NAF HRMS) enables MCCS to streamline the employment application process, reduce processing and recruiter response times, and decrease the need for applicant calls and inquiries; therefore, improving the applicant's experience.

Additionally, information collection via NAVMC 12000/499 is necessary to allow MCCS retirees receiving an annuity to request changes to their current NAF Group medical, dental, or life insurance plans; their NAF Group Retirement plan; and/or their beneficiary information. Finally, information is collected via NAVMC 12000/89 and 12000/89B to facilitate annuity requests from eligible retirees and lump sum payment requests from eligible retiree beneficiaries following the death of a retiree, respectively.

Affected Public: Business or other for-profit; individuals or households.

Frequency: On occasion.

Respondent's Obligation: Voluntary.

DoD Clearance Officer: Mr. Reginald Lucas.

Dated: August 13, 2025.
Aaron T. Siegel,
Alternate OSD Federal Register Liaison Officer, Department of Defense.

[FR Doc. 2025-15641 Filed 8-15-25; 8:45 am]

BILLING CODE 6001-FR-P